DEPARTMENT OF THE TREASURY

Office of Foreign Assets Control

Additional Designations, Foreign Narcotics Kingpin Designation Act

AGENCY: Office of Foreign Assets Control, Treasury.

ACTION: Notice.

SUMMARY: The U.S. Department of the Treasury 's Office of Foreign Assets Control (“OFAC”) is publishing the names of nine individuals and 22 entities whose property and interests in property have been blocked pursuant to the Foreign Narcotics Kingpin Designation Act (“Kingpin Act”) (21 U.S.C. 1901-1908, 8 U.S.C. 1182).

DATES: The designation by the Director of OFAC of the nine individuals and 22 entities identified in this notice pursuant to section 805(b) of the Kingpin Act is effective on July 9, 2013.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On July 9, 2013, the Director of OFAC designated the following nine individuals and 22 entities whose property and interests in property are blocked pursuant to section 805(b) of the Kingpin Act.

Individuals:

1. CEBALLOS BUENO, Johanna Patricia; DOB 08 May 1985; POB Bogota, Colombia; Cedula No. 53176500 (Colombia) (individual) [SDNTK] (Linked To: C.I. DEL ISTMO S.A.S.; Linked To: G&G INTERNACIONAL S.A.S.; Linked To: INDUITEX LTDA.; Linked To: SBT S.A.; Linked To: PROMESAS DEL FUTBOL COLOMBIANO S.A.).

2. GARZON ACOSTA, Miguel Arcangel; DOB 08 Jan 1949; POB Bogota, Colombia; Cedula No. 19081777 (Colombia) (individual) [SDNTK] (Linked To: C.I. DEL ISTMO S.A.S.; Linked To: SBT S.A.; Linked To: G&G INTERNACIONAL S.A.S.; Linked To: PROMESAS DEL FUTBOL COLOMBIANO S.A.).

3. GRIMBERG DE GUBEREK, Sara; DOB 14 Sep 1938; POB Cartagena, Colombia; Cedula No. 20222497 (Colombia) (individual) [SDNTK] (Linked To: ISSA EMPRESA UNIPERSONAL; Linked To: INVERSIONES GILFE S.A.; Linked To: INDUITEX LTDA.; Linked To: SBT S.A.; Linked To: G&G INTERNACIONAL S.A.S.; Linked To: FUNDACION ISSARA; Linked To: COMERCIALIZADORA INTERNACIONAL ANDINA LIMITADA; Linked To: COMPANIA REAL DE PANAMA S.A.; Linked To: BRACRO S.A.).

4. GUBEREK GRIMBERG, Henry (a.k.a. GUBEREX GRIMBERG, Henry), Bogota, Colombia; Rosh HaAyin, Israel; DOB 06 Apr 1958; POB Bogota, Colombia; citizen Colombia; alt. citizen Israel; Cedula No. 79150656 (Colombia); Passport AG578034 (Colombia); alt. Passport 11328034 (Israel); National ID No. 313850281 (Israel) (individual) [SDNTK] (Linked To: C.I. DEL ISTMO S.A.S.; Linked To: INDUITEX LTDA.; Linked To: I&S HOLDING COMPANY, S.A.; Linked To: ORBITAL HORIZONS CORP.; Linked To: COMERCIALIZADORA INTERNACIONAL ANDINA LIMITADA; Linked To: IMPAN-COL, S.A.; Linked To: T.F.M.C. THE FOOD MANAGEMENT CORPORATION LTD; Linked To: PROMESAS DEL FUTBOL COLOMBIANO S.A.).

5. GUBEREK GRIMBERG, Felipe, Panama; Safed, Israel; DOB 26 Jun 1968; POB Bogota, Colombia; Cedula No. 80414317 (Colombia); alt. Cedula No. E-8-83638 (Panama); National ID No. 326930153 (Israel) (individual) [SDNTK] (Linked To: I&S HOLDING COMPANY, S.A.; Linked To: INDUITEX LTDA.; Linked To: INVERSIONES GILFE S.A.; Linked To: ORBITAL HORIZONS CORP.; Linked To: FUNDACION ISSARA; Linked To: COMERCIALIZADORA INTERNACIONAL ANDINA LIMITADA; Linked To: GUBEREK GRIMBERG E HIJOS Y CIA. S. EN C.; Linked To: CONSTRUCTORA NACIONAL DE PANAMA S.A.; Linked To: AVANTI JOYEROS E.U.; Linked To: COMPANIA REAL DE PANAMA S.A.; Linked To: COLOMBO PERUANA DE TEJIDOS S.A.).

6. GUBEREK GRIMBERG, Arieh, Bogota, Colombia; DOB 17 Sep 1959; POB Bogota, Colombia; Cedula No. 79149680 (Colombia) (individual) [SDNTK] (Linked To: SBT S.A.; Linked To: PROMESAS DEL FUTBOL COLOMBIANO S.A.; Linked To: COMERCIALIZADORA INTERNACIONAL ANDINA LIMITADA; Linked To: COLOMBO PERUANA DE TEJIDOS S.A.; Linked To: COMPANIA REAL DE PANAMA S.A.; Linked To: GUBEREK GRIMBERG E HIJOS Y CIA. S. EN C.).

7. GUBEREK RAVINOVICZ, Isaac Perez (a.k.a. GUBEREK RABINOVICH, Isaac); DOB 21 Mar 1936; POB Bogota, Colombia; citizen Colombia; Cedula No. 2918329 (Colombia); Passport AM354606 (Colombia) (individual) [SDNTK] (Linked To: C.I. DEL ISTMO S.A.S.; Linked To: I&S HOLDING COMPANY, S.A.; Linked To: INDUITEX LTDA.; Linked To: CHAPS INVESTMENT INC.; Linked To: SBT S.A.; Linked To: ISSA EMPRESA UNIPERSONAL; Linked To: INVERSIONES GILFE S.A.; Linked To: INVERSORA PANACOL S.A.; Linked To: ORBITAL HORIZONS CORP.; Linked To: FUNDACION ISSARA; Linked To: G&G INTERNACIONAL S.A.S.; Linked To: COMERCIALIZADORA INTERNACIONAL ANDINA LIMITADA; Linked To: IMPAN-COL, S.A.; Linked To: COLOMBO PERUANA DE TEJIDOS S.A.; Linked To: C.I. CAFFEE VALORES S.A.; Linked To: PROMESAS DEL FUTBOL COLOMBIANO S.A.).

8. GUBEREK REYES, David Felipe; DOB 01 Oct 1983; POB Bogota, Colombia; Cedula No. 80196313 (Colombia) (individual) [SDNTK] (Linked To: INVERSIONES GILFE S.A.; Linked To: SBT S.A.; Linked To: G&G INTERNACIONAL S.A.S.; Linked To: PROMESAS DEL FUTBOL COLOMBIANO S.A.).

9. TOVAR ZULETA, Jorge Eduardo; DOB 09 Oct 1964; POB Cali, Colombia; Cedula No. 79324921 (Colombia) (individual) [SDNTK] (Linked To: INDUITEX LTDA.; Linked To: SBT S.A.).

Entities:

1. AVANTI JOYEROS E.U. (f.k.a. “ORLY OVADIA DE GUBEREK EMPRESA UNIPERSONAL”), Calle 17 No. 68D-52, Bogota, Colombia; Matricula Mercantil No 745957 (Colombia) [SDNTK].

2. BRACRO S.A., Panama City, Panama; RUC # 990805-1-534158 (Panama) [SDNTK].

3. C.I. CAFFEE VALORES S.A., Via Espana y Calle Elvira Mendez, Edificio Bank Boston, Piso 2, Panama City, Panama; Public Registration Number 467323, Doc. 694710 (Panama) [SDNTK].

4. C.I. DEL ISTMO S.A.S. (f.k.a. C.I. DEL ISTMO S.A.; f.k.a. COMERCIALIZADORA INTERNACIONAL DEL ITSMO S.A.), Calle 100 No. 17A-36, Ofc. 705, Bogota, Colombia; NIT # 9000144704 (Colombia); Matricula Mercantil No 1461858 (Colombia) [SDNTK].

5. CHAPS INVESTMENT INC., Panama City, Panama; RUC # 63315-21-354702 (Panama) [SDNTK].

6. COLOMBO PERUANA DE TEJIDOS S.A. (a.k.a. COPETE S.A.), Calle 23A No. 69B-19, Bogota, Colombia; NIT # 8001711408 (Colombia); Matricula Mercantil No 513540 (Colombia) [SDNTK].

7. COMERCIALIZADORA INTERNACIONAL ANDINA LIMITADA (a.k.a. COINTERANDINA), Calle 14 No. 64-56, Bogota, Colombia; NIT # 8605112278 (Colombia); Matricula Mercantil No 183816 (Colombia) [SDNTK].

8. COMPANIA REAL DE PANAMA S.A., Panama City, Panama; RUC # 347674-1-417135 (Panama) [SDNTK].

9. CONSTRUCTORA NACIONAL DE PANAMA S.A., Panama City, Panama; RUC # 107196-1-379500 (Panama) [SDNTK].

10. FUNDACION ISSARA, Avenida Samuel Lewis y Calle Santa Rita, Edificio Plaza Obarrio, Piso 3, Oficina 308, Panama City, Panama; RUC # 1333398-1-28957 (Panama) [SDNTK].

11. G&G INTERNACIONAL S.A.S. (a.k.a. G Y G INTERNACIONAL S.A.S.; a.k.a. SEBASTIANO), Calle 100 No. 17A-36, Ofc. 705, Bogota, Colombia; NIT # 9002981691 (Colombia); Matricula Mercantil No 1910782 (Colombia); alt. Matricula Mercantil No 1237153 (Colombia); alt. Matricula Mercantil No 1730043 (Colombia); alt. Matricula Mercantil No 1816081 (Colombia) [SDNTK].

12. GUBEREK GRIMBERG E HIJOS Y CIA. S. EN C., Bogota, Colombia; NIT # 8000609604 (Colombia) [SDNTK].

13. I&S HOLDING COMPANY, S.A. (a.k.a. I AND S HOLDING COMPANY, S.A.), Panama; RUC # 1199542-1-581763 (Panama) [SDNTK].

14. IMPAN-COL, S.A., Panama; RUC # 3058-123-47645 (Panama) [SDNTK].

15. INDUITEX LTDA., Avenida Libertadores, Bodega E-2, Zona Franca, Cucuta, Colombia; NIT # 9001451701 (Colombia) [SDNTK].

16. INVERSIONES GILFE S.A., AK 15 No. 93-60, LC 121, Bogota, Colombia; NIT # 8301317025 (Colombia); Matricula Mercantil No 1326707 (Colombia) [SDNTK].

17. INVERSORA PANACOL S.A., Panama City, Panama; RUC # 720126-1-472906 (Panama) [SDNTK].

18. ISSA EMPRESA UNIPERSONAL (a.k.a. ISSA E.U.; f.k.a. SARA GRIMBERG DE GUBEREK EMPRESA UNIPERSONAL), Calle 17 No. 68D-52, Bogota, Colombia; NIT # 8300486885 (Colombia); Matricula Mercantil No 745969 (Colombia) [SDNTK].

19. ORBITAL HORIZONS CORP., Panama; RUC # 1196790-1-581234 (Panama) [SDNTK].

20. PROMESAS DEL FUTBOL COLOMBIANO S.A. (a.k.a. PROFUTCOL S.A.), Calle 83 No. 108-15, Bogota, Colombia; Celta Trade Park, Lote 41 Bodega 10, Km. 7 Autopista Bogota-Medellin, Funza, Cundinamarca, Colombia; NIT # 9002835705 (Colombia); Matricula Mercantil No 1886854 (Colombia) [SDNTK].

21. SBT S.A., Calle 100 No. 17A-36 Oficina 803, Bogota, Colombia; Celta Trade Park, Lote 41 Bodega 10, Km. 7 Autopista Bogota-Medellin, Funza, Cundinamarca, Colombia; Web site www.sebastianomoda.com; NIT # 8300350034 (Colombia); Matricula Mercantil No 816477 (Colombia) [SDNTK].

22. T.F.M.C. THE FOOD MANAGEMENT CORPORATION LTD, 3 Ha'avoda Street, Rosh HaAyin 48017, Israel; Commercial Registry Number 513174466 (Israel) [SDNTK].

Dated: July 9, 2013.
Adam J. Szubin,
Director, Office of Foreign Assets Control.

[FR Doc. 2013-16976 Filed 7-15-13; 8:45 am]

BILLING CODE 4810-AL-P